DEPARTMENT OF HEALTH AND HUMAN SERVICES

Indian Health Service

American Indians Into Nursing Program; Correction

AGENCY: Indian Health Service, HHS.

ACTION: Notice; correction.

SUMMARY: The Indian Health Service published a document in the Federal Register on March 28, 2016, for the FY 2016 American Indians into Nursing. The notice contained incorrect project period lengths.

FOR FURTHER INFORMATION CONTACT: Naomi Aspaas, BSN, RN, Program Official, Office of Human Resource, Division of Health Professions Support, 5600 Fishers Lane, Mail Stop: OHR 11E53A, Rockville, MD 20857, Telephone (301) 443-5710. (This is not a toll-free number.)

Correction

In the Federal Register of March 28, 2016, in FR Doc. 2016-06969, on page 17182, in the third column, under the heading “III. Eligibility Information, 1. Eligibility, (b) Priorities”, the correct paragraphs should read as follows:

1. Priority I: At least two awards to public or private college or university, school of nursing which provides DNP, MSN, BSN, ADN (registered nurse, nurse practitioner, nurse midwife) degrees, not to exceed $400,000 per year up to a project period of three years.

2. Priority II: At least three awards to a Tribally-controlled community college, school of nursing which provides BSN and ADN (registered nurse) degrees, not to exceed $400,000 per year up to a project period of three years.

Dated: April 18, 2016.
Elizabeth A. Fowler,
Deputy Director for Management Operations, Indian Health Service.

[FR Doc. 2016-09939 Filed 4-27-16; 8:45 am]

BILLING CODE 4165-16-P